DEPARTMENT OF STATE

[Public Notice 3260]

Culturally Significant Objects Imported for Exhibition Determinations: “Michelangelo to Picasso: Master Drawings From the Collection of the Albertina, Vienna”

DEPARTMENT: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999, as amended by Delegation of Authority No. 236-1 of November 9, 1999, I hereby determine that the objects to be included in the exhibit, “Michelangelo to Picasso: Master Drawings from the Collection of the Albertina, Vienna,” imported from abroad for the temporary exhibition without profit within the United States, are of cultural significance. These objects are imported pursuant to a loan agreement with the foreign lender. I also determine that the temporary exhibition or display of the exhibit objects at the Frick Collection, New York, NY, from on or about April 17, 2000, to on or about June 18, 2000, is in the national interest. Public Notice of these determinations is ordered to be published in the Federal Register.

FOR FURTHER INFORMATION CONTACT: For further information, including a list of exhibit objects, contact Paul W. Manning, Attorney-Adviser, Office of the Legal Adviser, 202/619-5997, and the address is Room 700, United States Department of State, 301 4th Street, SW, Washington, DC 20547-0001.

Dated: March 15, 2000.
William B. Bader,
Assistant Secretary for Educational and Cultural Affairs, United States Department of State.

[FR Doc. 00-7105 Filed 3-21-00; 8:45 am]

BILLING CODE 4710-28-P